DEPARTMENT OF COMMERCE

International Trade Administration

[A-549-813]

Canned Pineapple Fruit From Thailand: Preliminary Results of Antidumping Duty Administrative Review

Correction

In notice document 05-15640 beginning on page 45651 in the issue of Monday, August 8, 2005, make the following corrections:

1. On page 45652, in the second column, in the 16th line from the top, “buy” should read “by”.

2. On page 45655, in the second column, under the heading Assessment Rates, in the seventh line, “rather” should read “rates”.

3. On the same page, in the same column, under the same heading, in the 21st line, ad valorem should read ad valorem.

[FR Doc. C5-15640 Filed 10-5-05; 8:45 am]

BILLING CODE 1505-01-D